DEPARTMENT OF DEFENSE

Department of the Army

Draft Environmental Impact Statement Addressing Heat and Electrical Upgrades at Fort Wainwright, Alaska

AGENCY: Department of the Army, DOD.

ACTION: Notice of availability.

SUMMARY: The Department of the Army announces the availability of the Draft Environmental Impact Statement (EIS) as part of the environmental planning process to address heat and electrical upgrades at Fort Wainwright, Alaska. The current condition of the heat and power plant, one of the oldest coal-fired central heat and power plants (CHPP) in the United States, and its aging heat distribution system requires an upgrade to provide reliable heat and electrical infrastructure for the installation that resolves safety, resiliency, fiscal, and regulatory concerns. The Draft EIS evaluates reasonable alternatives, potential environmental impacts, and key issues of concern. A preferred alternative is not identified at this time. Comments received on the Draft EIS will be fully considered prior to determining which alternative would be the Army's preferred alternative, a preference that will be identified when the Final EIS is published.

DATES: Comments must be received by December 8, 2020 to be considered in the preparation of the Final EIS.

ADDRESSES: Please submit written comments to Laura Sample, NEPA Program Manager at: Directorate of Public Works, ATTN: IMFW-PWE (L. Sample), 1046 Marks Road #4500, Fort Wainwright, AK 99703-4500, email: usarmy.wainwright.id-pacific.mbx.heu-eis@mail.mil.

FOR FURTHER INFORMATION CONTACT: Please contact Grant Sattler, Public Affairs Office, IMPC-FWA-PAO (Sattler), 1060 Gaffney Road #5900, Fort Wainwright, AK 99703-5900; telephone (907) 353-6701; email: alan.g.sattler.civ@mail.mil.

SUPPLEMENTARY INFORMATION: Fort Wainwright, Alaska is located in the interior of Alaska in the Fairbanks North Star Borough, and is home to the U.S. Army Garrison (USAG) Alaska and units of United States Army Alaska (USARAK). The soldiers, families, and civilians that make up the Fort Wainwright population are reliant upon a 65-year old coal-fired CHPP and an antiquated heat distribution system to heat and power more than 400 facilities. The CHPP is one of the oldest operational coal-fired power plants in the United States and is operating beyond the average design life of similar facilities. Constructing upgraded heat and electrical infrastructure would reduce utility costs, minimize the risk of a catastrophic failure, help safeguard mission readiness, meet energy efficiency standards, be compliant with emissions standards, and conform to Army-directed energy security criteria.

The Army identified three reasonable Action Alternatives that would meet the purpose of and need for the Proposed Action. Alternatives considered in the Draft EIS, including a No Action Alternative, are (1) construction of a new coal-fired CHPP, (2) construction of a new dual-fuel combustion turbine generator CHPP that would be primarily fueled by natural gas, and (3) decentralization of heat and power in which heat would be provided by distributed natural gas boilers installed at facilities across the installation and electricity would be purchased from a local utility provider.

The Draft EIS evaluates the potential direct, indirect, and cumulative environmental and socioeconomic impacts of these alternatives. Adverse impacts would be minimized to the extent possible through implementation of the avoidance, minimization, and mitigation measures.

Resource areas analyzed in the Draft EIS include: Air quality, utilities, hazardous and toxic materials and wastes, socioeconomics, environmental justice, noise, land use, transportation and traffic, human health and safety, geology and soil resources, water resources, cultural resources, and airspace.

Unavoidable environmental impacts would result from implementation of the Proposed Action. Significant, adverse impacts would be anticipated for socioeconomics (Alternatives 2 and 3, reduced coal demand), environmental justice (Alternatives 2 and 3, reduced coal demand), and cultural resources (Alternative 3, utilidor upgrades in Ladd Field National Historic Landmark). Less than significant, adverse impacts include increases in water turbidity; disturbance of sediments; noise from construction; localized habitat degradation; soil disturbance and erosion; stormwater runoff into surface water; and increased traffic, air emissions, and noise associated with construction vehicles and activities. Beneficial impacts would be anticipated for utilities (increased heating efficiency and improved system reliability). Under the No Action alternative, significant, adverse impacts would be anticipated for utilities, environmental justice, and human health and safety due to continued risk of plant failure.

Federal, state, and local agencies; Alaska Natives; Native Americans; Native American organizations and tribes; private organizations; and the public are invited to be involved in this EIS process by providing verbal or written comments. An online open house is available at https://home.army.mil/alaska/index.php/fort-wainwright/NEPA/HEU-EIS and a virtual public meeting will be announced locally. The date and time of the virtual public participation will be announced via Fairbanks and Healy, Alaska local news media and on digital platforms. Holding the public comment meeting virtually is required because of COVID-19 safety concerns.

An electronic copy of the Draft EIS is available online at: https://home.army.mil/alaska/index.php/fort-wainwright/NEPA/HEU-EIS. Copies of the Draft EIS will be available for review at the Noel Wien Library, 1215 Cowles Street, Fairbanks, AK 99701; the Post Library, Building 3700, Santiago Avenue, Fort Wainwright, AK 99703; and the Tri-Valley Community Library, 400 Suntrana Road, Healy, AK 99743, if these facilities are open. Copies of the Draft EIS are also available by submitting a request to: See ADDRESSES. Written comments must be sent within December 8, 2020. The Department of the Army will consider all comments received on the Draft EIS when preparing the Final EIS. As with the Draft EIS, the Department of the Army will announce the availability of the Final EIS.

James W. Satterwhite Jr.,
Alternate Army Federal Register Liaison Officer.

[FR Doc. 2020-22368 Filed 10-8-20; 8:45 am]

BILLING CODE 5061-AP-P